DEPARTMENT OF TRANSPORTATION

Federal Aviation Administration

14 CFR Part 71

[Docket No. FAA-2005-22398; Airspace Docket No. 05-ASO-7]

RIN 2120-AA66

Establishment of High Altitude Area Navigation Routes; South Central United States

AGENCY: Federal Aviation Administration (FAA), DOT.

ACTION: Final rule; correction.

SUMMARY: This action corrects an error in the geographic coordinate for one navigation fix listed in a final rule published in the Federal Register on February 13, 2006 (71 FR 7409), Airspace Docket No. 05-ASO-7, FAA Docket No. FAA-2005-22398.

DATES: Effective: April 13, 2006.

FOR FURTHER INFORMATION CONTACT: Paul Gallant, Airspace and Rules, Office of System Operations Airspace and AIM, Federal Aviation Administration, 800 Independence Avenue, SW., Washington, DC 20591; telephone: (202) 267-8783.

SUPPLEMENTARY INFORMATION:

History

On February 13, 2006, a final rule for Airspace Docket No. 05-ASO-7, FAA Docket No. FAA-2005-22398 was published in the Federal Register (71 FR 7409). This rule established 16 high altitude area navigation routes in the South Central United States. In the description for route Q-36, the longitude coordinate for the SWAPP fix was incorrectly published as 86°10′56″ W., which represents a one degree error. The correct longitude coordinate is 85°10′56″ W. This action corrects the error. The rule listed the correct coordinates for the SWAPP fix in the descriptions of routes Q-32 and Q-34.

Correction to Final Rule

Accordingly, pursuant to the authority delegated to me, the legal description for route Q-36 as published in the Federal Register on February 13, 2006 (71 FR 7409), Airspace Docket No. 05-ASO-7, FAA Docket No. FAA-2005-22398, and incorporated by reference in 14 CFR 71.1, is corrected as follows:

PART 71—[AMENDED]

§ 71.1 [Amended]

On page 7411, correct the description for route Q-36, to read as follows:

Paragraph 2006—Area Navigation Routes

* * * * *

Q-36 RZC to SWAPP [Corrected]
RZC | VORTAC | (lat. 36°14′47″ N., long. 94°07′17″ W.)
TWITS | WP | (lat. 36°08′32″ N., long. 90°54′48″ W.)
DEPEC | WP | (lat. 36°06′00″ N., long. 87°31′00″ W.)
BNA | VORTAC | (lat. 36°08′13″ N., long. 86°41′05″ W.)
SWAPP | Fix | (lat. 36°36′50″ N., long. 85°10′56″ W.)

* * * * *

Issued in Washington, DC, on March 8, 2006.
Edith V. Parish,
Manager, Airspace and Rules.

[FR Doc. 06-2503 Filed 3-14-06; 8:45 am]

BILLING CODE 4910-13-P